DEPARTMENT OF COMMERCE

International Trade Administration

19 CFR Part 351

[Docket No. 250325-0052]

RIN 0625-AB26

Modernizing the Annexes of the Antidumping and Countervailing Duty Trade Remedy Regulations; Correction

AGENCY: Enforcement and Compliance, International Trade Administration, Department of Commerce.

ACTION: Correcting amendments.

SUMMARY: On December 19, 2024, the U.S. Department of Commerce (Commerce) revised the annexes of the trade remedy regulations to modernize the administration of the antidumping duty (AD) and countervailing duty (CVD) laws. This amendment corrects inadvertent errors in dates and regulatory language.

DATES: Effective March 31, 2025.

FOR FURTHER INFORMATION CONTACT: Scott D. McBride, Associate Deputy Chief Counsel, at (202) 482-6292 or Jesus Saenz, Senior Attorney, at (202) 482-1823.

SUPPLEMENTARY INFORMATION: On December 19, 2024, Commerce published a final rule, effective immediately, revising the annexes of the trade remedy regulations to reflect changes made to enhance the administration of the AD and CVD laws (89 FR 103633). Specifically, Commerce updated the number of days and the regulation cross-reference for each event listed in the existing annexes, created new annexes, and deleted an obsolete annex. The final rule, however, misidentified certain deadlines, placed some dates out of order, omitted a regulation reference, and omitted some regulatory text in Annexes I, II, III, IV, and X. This amendment corrects these deadlines and references.

Commerce finds good cause pursuant to the authority at 5 U.S.C. 553(b)(B) and 553(d)(3) to forego prior notice, opportunity for public comment, and a 30-day delay in effective date because such procedures are unnecessary. This rulemaking corrects the annexes to reflect changes to the AD and CVD regulations that have already undergone notice and comment. As such, the contents of the revised annexes have already undergone notice and comment rulemaking, and repeating that process is unnecessary.

Because prior notice and opportunity for public comment and a 30-day delay in the effective date are not required for this rule by 5 U.S.C. 553, or any other law, the analytical requirements of the Regulatory Flexibility Act, 5 U.S.C. 601, et seq., are inapplicable.

This rule has been found to be not significant for purposes of Executive Order 12866.

List of Subjects in 19 CFR Part 351

Administrative practice and procedure, Antidumping, Business and industry, Confidential business information, Countervailing duties, Freedom of information, Investigations, Reporting and recordkeeping requirements.

Dated: March 25, 2025
Christopher Abbott,
Deputy Assistant Secretary for Policy and Negotiations, performing the non-exclusive functions and duties of the Assistant Secretary for Enforcement and Compliance.

Accordingly, 19 CFR part 351 is corrected by making the following correcting amendment:

PART 351—ANTIDUMPING AND COUNTERVAILING DUTIES

1. The authority citation for 19 CFR part 351 continues to read as follows:

Authority: 5 U.S.C. 301; 19 U.S.C. 1202 note; 19 U.S.C. 1303 note; 19 U.S.C. 1671 et seq.

2. Amend part 351 by revising annex I through IV to read as follows:

Annex I to Part 351—Deadlines for Parties in Countervailing Investigations
Day ¹ | Event | Regulation
0 days | Initiation
20 days | Submission of factual information to measure adequacy of remuneration | 351.301(c)(3)(i)(B) or (C) (45 days before the scheduled date of preliminary determination, or the Secretary may issue an alternative schedule).
30 days | Rebuttal, clarification, or correction of factual information to measure adequacy of remuneration | 351.301(c)(3)(iv) (10 days after filing of factual information to measure adequacy of remuneration).
31 days ² | Notification of difficulty in responding to questionnaire | 351.301(c)(1)(iii) (14 days after date of receipt of questionnaire).
35 days | Submission of factual information not directly responsive to or relating to that described in 351.102(b)(21)(i)-(iv) | 351.301(c)(5) (The earlier of 30 days before the scheduled date of preliminary determination or 14 days before verification).
40 days | Request for postponement by petitioner | 351.205(e) (25 days or more before the scheduled date of preliminary determination).
45 days | Allegation of critical circumstances before preliminary determination | 351.206(c)(2)(i) (20 days before the scheduled date of preliminary determination).
0-47 days | Application for an administrative protective order | 351.305(b)(3) (before submission of the first response to questionnaire; where justified, may be filed up to the date on which the case briefs are due).
47 days | Questionnaire responses | 351.301(c)(1)(i) (30 days from date of receipt of questionnaire).
65 days (May be postponed to 130 days) | Preliminary determination | 351.205(b)(1) and (2) (65 days after initiation of the investigation, but may be extended to 130 days after initiation of investigation).
72 days | Submission of proposed suspension agreement | 351.208(f)(1)(i)(B) (7 days after preliminary determination).
75 days | Submission of ministerial error comments after preliminary determination | 351.224(c)(2) (5 days after the earlier of the release of disclosure documents or a disclosure meeting).
77 days ³ | Request to align a CVD investigation with a concurrent AD investigation | 351.210(i) (5 days after date of publication of preliminary determination).
102 days | Request for a hearing | 351.310(c) (30 days after date of publication of preliminary determination).
119 days | Allegation of critical circumstances before final determination | 351.206(e) (21 days or more before scheduled date of final determination).
122 days | Requests for closed hearing Sessions | 351.310(f) (No later than the date the case briefs are due).
122 days | Submission of briefs | 351.309(c)(1)(i) (50 days after date of publication of preliminary determination).
125 days | Allegation of upstream subsidies | 351.301(c)(2)(iv)(C) (60 days after the preliminary determination).
127 days | Submission of rebuttal briefs | 351.309(d)(1) (5 days after deadline for filing case brief).
129 days | Hearing | 351.310(d)(1) (2 days after submission of rebuttal briefs).
147 days ⁴ (May be postponed to 237 days) | Final determination | 351.210(b)(1) and (3) (75 days after preliminary determination, but may be postponed to 165 days after preliminary determination if Secretary investigates an upstream subsidy allegation and concludes additional time is needed).
150 days | Submission of ministerial error comments after final determination | 351.224(c)(2) (5 days after the earlier of the release of disclosure documents or a disclosure meeting).
155 days | Submission of replies to ministerial error comments | 351.224(c)(3) (5 days after filing of ministerial error comments).
199-289 days | Order issued | 351.211(b) (Not later than 7 days after receipt of notice of an affirmative final injury determination by the U.S. International Trade Commission).
¹ indicates the number of days from the date of initiation. Most of the deadlines shown here are approximate. The actual deadline in any particular segment of a proceeding may depend on the date of an earlier event or be established by the Secretary.
² Assumes that the Department sends out the questionnaire within 10 days of the initiation and allows 7 days for receipt of the questionnaire from the date on which it was transmitted.
³ Assumes that the Preliminary Determination is published 7 days after issuance.
⁴ Assumes that the Preliminary Determination is published 7 days after issuance.

Annex II to Part 351—Deadlines for Parties in Countervailing Administrative Reviews
Day ¹ | Event | Regulation
0 days | Request for review | 351.213(b)(1) (Last day of the anniversary month).
30 days | Publication of initiation notice | 351.221(c)(1)(i) (End of month following the anniversary month).
66 days ² | Notification of difficulty in responding to questionnaire | 351.301(c)(1)(iii) (14 days after date of receipt of questionnaire).
0-75 days | Application for an administrative protective order | 351.305(b)(3) (before submission of first response; where justified, may be filed up to the date on which the case briefs are due).
90 days ³ | Questionnaire responses | 351.301(c)(1)(i) (At least 30 days after date of receipt of questionnaire).
104 days | Submission of factual information to rebut, clarify, or correct questionnaire response | 351.301(c)(1)(v) (14 days after questionnaire response).
110 days | Countervailable subsidy allegation | 351.301(c)(2)(iv)(B) (20 days after filing of all responses to questionnaire).
120 days | Withdrawal of request for review | 351.213(d)(1) (90 days after date of publication of initiation).
130 days | Request for verification | 351.307(b)(1)(v)(A) (100 days after date of publication of initiation).
185 days | Submission of factual information to measure adequacy of remuneration | 351.301(c)(3)(ii)(A) or (B) (60 days before scheduled date of preliminary results, or the Secretary may issue an alternative schedule).
195 days | Rebuttal, clarification, or correction of factual information to measure adequacy of remuneration | 351.301(c)(3)(iv) (10 days after filing of factual information to measure adequacy of remuneration).
215 days | Submission of factual information not directly responsive to or relating to that described in 351.102(b)(21)(i)-(iv) | 351.301(c)(5) (The earlier of 30 days before the scheduled date of preliminary results or 14 days before verification).
245 days (May be extended to 365 days) | Preliminary results of review | 351.213(h)(1) and (2) (245 days after the last day of the anniversary month, but may be extended to 365 days after the last day of the anniversary).
282 days ⁴ | Request for a hearing | 351.310(c) (30 days after date of publication of preliminary results).
282 days | Request for a closed hearing session | 351.310(f) (date on which the case briefs are due).
282 days | Submission of briefs | 351.309(c)(1)(ii) (30 days after date of publication of preliminary results).
287 days | Submission of rebuttal briefs | 351.309(d)(1) (5 days after deadline for filing case briefs).
289 days | Hearing | 351.310(d)(1) (2 days after submission of rebuttal briefs).
372 days ⁵ (May be extended to 552 days) | Final results of review | 351.213(h)(1) and (2) (120 days after date of publication of preliminary results, but may be extended to 180 days after date of publication of preliminary results).
382 days | Submission of ministerial error comments | 351.224(c)(2) (5 days after the earlier of the release of disclosure documents or the disclosure meeting).
387 days | Replies to ministerial error comments | 351.224(c)(3) (5 days after filing of comments).
¹ Indicates the number of days from the end of the anniversary month. Most of the deadlines shown here are approximate. The actual deadline in any particular segment of a proceeding may depend on the date of an earlier event or be established by the Secretary.
² Assumes that the Department sends out the questionnaire 45 days after the last day of the anniversary month and allows 7 days for receipt of the questionnaire from the date on which it was transmitted.
³ Assumes that the Department sends out the questionnaire on day 45 and the response is due 45 days later.
⁴ Assumes that the Preliminary Results are published 7 days after issuance.
⁵ Assumes that the Preliminary Results are published 7 days after issuance.

Annex III to Part 351—Deadlines for Parties in Antidumping Investigations
Day ¹ | Event | Regulation
0 days | Initiation |
21 days | Application/certification for separate rate (nonmarket economy) | 351.108(d)(1) (21 days after publication).
50 days | Country-wide cost allegation | 351.301(c)(2)(ii)(A) (20 days after date on which questionnaire was transmitted).
0-67 days | Application for an administrative protective order | 351.305(b)(3) (before submission of the first response to the questionnaire; where justified, may be filed up to the date on which the case briefs are due).
51 days ² | Notification of difficulty in responding to questionnaire | 351.301(c)(1)(iii) (Within 14 days after date of receipt of questionnaire).
67 days | Questionnaire responses | 351.301(c)(1)(i) (At least 30 days after date of receipt of questionnaire; where justified, may be filed up to the date on which the case briefs are due).
77 days | Viability arguments and certain multinational corporation allegations | 351.301(c)(2)(i) (10 days after response to relevant section of the questionnaire was filed) and 351.404(g)(1).
80 days | Submission of publicly available information to value factors (nonmarket economy) | 351.301(c)(3)(i)(A) or (C) (60 days before scheduled date of preliminary determination, or the Secretary may issue an alternative schedule)).
87 days | Company-specific cost allegations | 351.301(c)(2)(ii)(A) (within 20 days after response to relevant section of questionnaire was filed).
87 days | Major input cost allegations | 351.301(c)(2)(iii) (within 20 days after response to relevant section of questionnaire was filed).
110 days | Submission of other factual information not responsive to or relating to 351.102(b)(21)(i)-(iv) | 351.301(c)(5) (The earlier of 30 days before scheduled date of preliminary determination or 14 days before verification).
115 days | Request for postponement by petitioner | 351.205(e) (25 days or more before scheduled date of preliminary determination).
120 days | Allegation of critical circumstances before preliminary determination | 351.206(c)(2)(i) (20 days before scheduled date of preliminary determination).
140 days (May be postponed to 190 days) | Preliminary determination | 351.205(b)(1) and (2) (140 days after the publication of initiation, but may be extended to 190 days after the publication of initiation).
150 days | Submission of ministerial error comments | 351.224(c)(2) (5 days after release of disclosure documents or holding of a disclosure meeting).
155 days | Submission of proposed suspension agreement | 351.208(f)(1)(i)(A) (15 days after issuance of preliminary determination).
177 days ³ | Request for a hearing | 351.310(c) (30 days after date of publication of preliminary determination).
194 days | Allegation of critical circumstance allegation before final determination | 351.206(e) (21 days before scheduled date of final determination).
197 days (May be changed) | Request for closed hearing sessions | 351.310(f) (No later than the date the case briefs are due).
197 days (May be changed) | Submission of briefs | 351.309(c)(1)(i) (50 days after date of publication of preliminary determination).
202 days | Submission of rebuttal briefs | 351.309(d)(1) (5 days after deadline for filing case briefs).
204 days | Hearing | 351.310(d)(1) (2 days after submission of rebuttal briefs).
215 days | Request for postponement of the final determination | 351.210(e) (Submitted within the scheduled date of the final determination).
222 days ⁴ (May be postponed to 282 days) | Final determination | 351.210(b)(1) and (2) (75 days after the date of publication of preliminary determination, but may be postponed to 135 days after the date of publication of preliminary determination).
232 days | Submission ministerial error comments | 351.224(c)(2) (5 days after release of disclosure documents or holding of a disclosure meeting).
237 days | Replies to ministerial error comments | 351.224(c)(3) (5 days after filing of comments).
274-334 days | Order issued | 351.211(b) (Not later than 7 days after receipt of notice of an affirmative final injury determination by the U.S. International Trade Commission).
¹ Indicates the number of days from the date of initiation. Most of the deadlines shown here are approximate. The actual deadline in any particular segment of a proceeding may depend on the date of an earlier event or be established by the Secretary.
² Assumes that the Department sends out the questionnaire 5 days after the U.S. International Trade Commission vote and allows 7 days for receipt of the questionnaire from the date on which it was transmitted.
³ Assumes that the Preliminary Determination is published 7 days after issuance.
⁴ Assumes that the Preliminary Determination is published 7 days after issuance.

Annex IV to Part 351—Deadlines for Parties in Antidumping Administrative Reviews
Day ¹ | Event | Regulation
0 days | Request for review | 351.213(b)(1) (During the anniversary month).
30 days | Publication of initiation | 351.221(c)(1)(i) (End of month following the anniversary month).
0-90 days | Application for an administrative protective order | 351.305(b)(3) (Before submission of first response to questionnaire; where justified, may be filed up to the date on which the case briefs are due).
44 days | Application/certification for separate rate (nonmarket economy) | 351.108(d)(2) and (3) (14 days after publication of initiation).
60 days | Request to examine absorption of duties | 351.213(j)(1) (30 days after date of publication of initiation).
66 days ² | Notification of difficulty in responding to questionnaire | 351.301(c)(1)(iii) (14 days after date of receipt of questionnaire).
85 days | Viability arguments and certain multinational corporation allegations | 351.301(c)(2)(i) (10 days after relevant section is filed) and 351.404(g)(1).
90 days ³ | Questionnaire responses | 351.301(c)(1)(i) (At least 30 days after date of receipt of questionnaire).
110 days | Company-specific cost allegations | 351.301(c)(2)(ii)(B) (20 days after relevant section is filed).
110 days | Major input cost allegations | 351.301(c)(2)(iii) (20 days after relevant section is filed).
120 days | Withdrawal of request for review | 351.213(d)(1) (90 days after date of publication of initiation).
130 days | Request for verification | 351.307(b)(1)(v)(A) (100 days after date of publication of initiation).
185 days | Submission of publicly available information to value factors (nonmarket economy) | 351.301(c)(3)(ii)(A) and (B) (60 days before the scheduled date of preliminary results, or the Secretary may issue an alternative schedule).
215 days | Submission of other factual information not responsive to or relating to 351.102(b)(21)(i)-(iv) | 351.301(c)(5) (The earlier of 30 days before the scheduled date of preliminary results or 14 days before verification).
245 days (May be extended to 365 days) | Preliminary results of review | 351.213(h)(1) and (2) (245 days after the last day of the anniversary month, but may be extended to 365 days after the last day of the anniversary month.
282 days | Request for a hearing | 351.310(c) (30 days after date of publication of preliminary results).
282 days | Request for closed hearing sessions | 351.310(f) (No later than the date the case briefs are due).
282 days | Submission of briefs | 351.309(c)(1)(ii) (30 days after date of publication of preliminary results).
287 days | Submission of rebuttal briefs | 351.309(d)(1) (5 days after deadline for filing case briefs).
289 days | Hearing | 351.310(d)(1) (2 days after submission of rebuttal briefs).
372 days ⁴ (May be extended to 552 days) | Final results of review | 351.213(h)(1) and (2) (120 days after the date of publication of preliminary results, but may be extended to 180 days after the date of publication of the preliminary results).
382 days | Ministerial error comments | 351.224(c)(2) (5 days after release of disclosure documents).
387 days | Replies to ministerial error comments | 351.224(c)(3) (5 days after filing of comments).
¹ Indicates the number of days from the end of the anniversary month. Most of the deadlines shown here are approximate. The actual deadline in any particular segment of a proceeding may depend on the date of an earlier event or be established by the Secretary.
² Assumes that the Department sends out the questionnaire 45 days after the last day of the anniversary month and allows 7 days for receipt of the questionnaire from the date on which it was transmitted.
³ Assumes that the Department sends out the questionnaire on day 45 and the response is due 45 days later.
⁴ Assumes that the Preliminary Results are published 7 days after issuance.

3. Amend part 351 by revising annex X to read as follows:

Annex X to Part 351—Deadlines for Parties in Circumvention Inquiries
Day ¹ | Event | Regulation
0 days | Circumvention inquiry request or self-initiation | 351.226(b).
10 days | Comments and information on the adequacy of the request | 351.226(c)(3) (10 days after the circumvention inquiry request is filed).
15 days | Rebuttal comments | 351.226(c)(3) (5 days after new factual information in support of adequacy comments is filed).
30 days | Initiation determination of circumvention inquiry based on a request | 351.226(d)(1) (30 days after the circumvention inquiry request is filed unless Secretary finds it is impracticable or seeks clarification).
30 days | Comments and information addressing self-initiation | 351.226(f)(1) (30 days after a circumvention inquiry is self-initiated).
30 days | Scope ruling application rebuttal comments | 351.226(f)(2) (30 days after a circumvention inquiry is initiated under paragraph (d)(1)).
44 days | Applicant rebuttal comments (self-initiated inquiry) | 351.226(f)(1) (14 days after scope ruling application rebuttal comments are filed).
44 days | Applicant rebuttal comments (inquiry based on a request) | 351.226(f)(2) (14 days after scope ruling application rebuttal comments are filed).
157 days ² | Preliminary determination of self-initiated circumvention inquiry | 351.226(e)(1) (150 days after the notice of self-initiation is published) (May be extended by no more than 90 days).
187 days ³ | Preliminary determination of circumvention inquiry based on a request | 351.226(e)(1) (150 days after the notice of initiation is published) (May be extended by no more than 90 days).
171 days | Preliminary determination comments in self-initiated circumvention inquiry | 351.226(f)(4) (14 days after the issuance of the preliminary determination).
201 days | Preliminary determination comments in circumvention inquiry based on a request | 351.226(f)(4) (14 days after the issuance of the preliminary determination).
178 days | Preliminary determination rebuttal comments in self-initiated circumvention inquiry | 351.226(f)(4) (7 days after the issuance of the preliminary determination).
208 days | Preliminary determination rebuttal comments in circumvention inquiry based on a request | 351.226(f)(4) (7 days after the issuance of the preliminary determination).
300 days or 365 days | Final determination of self-initiated circumvention inquiry | 351.226(e)(2) (300 days after the notice of initiation is published) (May be extended by no more than 65 days).
330 days or 395 days | Final determination of circumvention inquiry based on a request | 351.226(e)(2) (300 days after the notice of initiation is published) (May be extended by no more than 65 days).
¹ Indicates the number of days from Initiation. Most of the deadlines shown here are approximate. The actual deadline in any particular segment of a proceeding may depend on the date of an earlier event or be established by the Secretary.
² Assumes that the Preliminary Results are published 7 days after issuance.
³ Assumes that the Preliminary Results are published 7 days after issuance.

[FR Doc. 2025-05482 Filed 3-27-25; 8:45 am]

BILLING CODE 3510-DS-P